DEPARTMENT OF THE INTERIOR

Bureau of Land Management

[LLID9570000.LL14200000.BJ0000]

Idaho: Filing of Plats of Survey

AGENCY: Bureau of Land Management, Interior.

ACTION: Notice of filing of plats of surveys.

SUMMARY: The Bureau of Land Management (BLM) has officially filed the plats of survey of the lands described below in the BLM Idaho State Office, Boise, Idaho, effective 9:00 a.m., on the dates specified.

FOR FURTHER INFORMATION CONTACT: Bureau of Land Management, 1387 South Vinnell Way, Boise, Idaho, 83709-1657.

SUPPLEMENTARY INFORMATION: These surveys were executed at the request of the Bureau of Land Management to meet their administrative needs. The lands surveyed are:

The plat representing the dependent resurvey of a portion of the subdivisional lines, and the subdivision of section 9, T. 5 S., R. 1 E., of the Boise Meridian, Idaho, Group Number 1378, was accepted November 15, 2013.

The plat representing the dependent resurvey of portions of the west boundary and subdivisional lines, and the subdivision of sections 7 and 8, T. 9 S., R. 36 E., of the Boise Meridian, Idaho, Group Number 1368, was accepted December 20, 2013.

Dated: January 13, 2014.
Jeffry A. Lee,
Chief Cadastral Surveyor for Idaho.

[FR Doc. 2014-01456 Filed 1-24-14; 8:45 am]

BILLING CODE 4310-GG-P